SECURITIES AND EXCHANGE COMMISSION

17 CFR Parts 232 and 249

[Release Nos. 33-9638A; 34-72982A; File No. S7-08-10]

RIN 3235-AK37

Asset-Backed Securities Disclosure and Registration; Correction

AGENCY: Securities and Exchange Commission.

ACTION: Final rule; correction.

SUMMARY: We are making technical corrections to rules that were published in the Federal Register on September 24, 2014 (79 FR 57184). The Commission adopted revisions to Regulation AB and other rules governing the offering process, disclosure, and reporting for asset-backed securities.

DATES: Effective November 24, 2014.

FOR FURTHER INFORMATION CONTACT: M. Hughes Bates, Attorney-Advisor, at (202) 551-3850; Division of Corporation Finance, Securities and Exchange Commission, 100 F Street NE., Washington, DC 20549-3628.

SUPPLEMENTARY INFORMATION: In FR Doc. 2014-21375, published in the Federal Register on Wednesday, September 24, 2014 (79 FR 57184), the following corrections are made:

§ 232.101 [Corrected]

1. On page 57332, in the first column, 19th line, amendment 39.b, the instruction “Adding paragraph (a)(1)(xiv)” is corrected to read “Adding paragraph (a)(1)(xv)”.

2. On page 57332, in the first column, 35th line, paragraph designation “(xiv)” is corrected to read “(xv)”.

PART 249—[CORRECTED]

3. On page 57344, in the third column, 17th line, amendment 62.a is removed and amendments 62.b and 62.c are redesignated as amendments 62.a and 62.b, respectively.

4. On page 57345, in the first column, 21st line, amendment 63.a is removed and the remaining amendment is redesignated as amendment 63.

5. On page 57345, in the first column, 57th line, amendment 64.c is removed and amendments 64.d, 64.e, 64.f, 64.g, 64.h, and 64.i are redesignated as amendments 64.c, 64.d, 64.e, 64.f, 64.g, and 64.h, respectively.

Dated: November 3, 2014.
Brent J. Fields,
Secretary.

[FR Doc. 2014-26504 Filed 11-7-14; 8:45 am]

BILLING CODE 8011-01-P